DEPARTMENT OF LABOR

Office of the Secretary

[Secretary's Order 12-2006]

Establishment of the Policy Planning Board

1. Purpose

To establish the Policy Planning Board (PPB or the Board) as a Department of Labor (DOL or Department)-wide forum responsible for reviewing, developing, and advancing all major Departmental or Agency policy initiatives.

2. Authority and Directives Affected

A. Authority. This Order is issued pursuant to 29 U.S.C. 551 et seq.; 5 U.S.C. 301; Reorganization Plan N. 6 of 1950 (5 U.S.C. Appendix 1); the Regulatory Flexibility Act, as amended by the Small Business Regulatory Enforcement Fairness Act [see 5 U.S.C. 601 et seq. and 15 U.S.C. 657]; and Executive Order 12866, “Regulatory Planning and Review” (September 30, 1993), as amended by Executive Order 13258 (February 26, 2002).

B. Directives Affected.

(1) This Order does not affect the authorities and responsibilities assigned by any other Secretary's Order, unless otherwise expressly so provided in this or another Order.

(2) Secretary's Order 3-2002, concerning the Policy Planning Board, is cancelled.

(3) This Order does not affect the procurement and contracting authority of the Assistant Secretary for Administration and Management (see Secretary's Order 4-76).

(4) This Order does not affect the authority of the Management Review Board under Secretary's Orders 3-2003 and 5-2001.

(5) This Order does not affect the Chief Information Officer's duties under the Paperwork Reduction Act (see Secretary's Order 3-2003).

3. Background

By a June 2001 memorandum, the Secretary of Labor created the PPB in order to ensure that major Departmental or Agency policy initiatives, and initiatives that cut across agency lines or require interdepartmental coordination, are fully considered by the appropriate DOL agencies, that such initiatives are consistent with Department and Administration policy, and that implementation of policies is coherent and responsible. This Order reaffirms the establishment of the PPB within the Department.

4. Board Composition and Process

A. Chairs. The PPB will be co-chaired by the Deputy Secretary and the Assistant Secretary for Policy. If neither the Deputy Secretary nor the Assistant Secretary for Policy is able to attend a meeting, that meeting will be chaired by their deputy or designee.

B. Membership. The membership of the PPB will be determined periodically by the Secretary, but will consist solely of heads of DOL agencies or offices.

C. Process.

(1) The PPB will meet as necessary.

(2) All meetings will be convened by one or both chairs with sufficient advance notice to promote full member participation.

(3) Not all PPB items require a Board meeting. The PPB chairs, after consultation with the action agency, may decide to circulate a proposed action to the necessary Board members for review without a meeting. Should such a “fast track” review result in identification of previously unforeseen issues, a Board meeting may be called by either chair.

(4) Following PPB deliberations, one or both chairs will advise the Secretary of PPB recommendations. Where PPB recommendations are not unanimously adopted, dissenting recommendations shall be submitted to the Secretary with the PPB recommendation, at the request of any dissenting members.

(5) The Secretary will make all final decisions on PPB matters. One or both chairs (or their designees) will advise members of the Secretary's final decision.

(6) The PPB may establish such standing or special ad-hoc workgroups, as appropriate, to implement agreed-upon activities and projects. Chairs of these workgroups shall report to the chairs of the PPB.

(7) Participation in Board and Workgroup meetings is limited to Federal Government officials.

D. Confidentiality. All PPB documents, discussions, recommendations and decisions are confidential and may be discussed with others only on a “need-to-know” basis.

5. Delegation of Authority and Assignment of Responsibility

A. The Policy Planning Board is delegated authority and assigned responsibility for coordinating all major Departmental or Agency policy initiatives and recommending the best course of action to the Secretary, including:

(1) Ensuring that all major policy options are considered, and that initiatives are consistent with Administration policy.

(2) Reviewing and making recommendations regarding Departmental or Agency regulatory actions; regulatory policy directives (for example, interpretive bulletins and administrative opinion letters); the Department's Semi-Annual Regulatory Agenda and Semi-Annual Peer Review Agenda; any other significant actions to be published in the Federal Register; and all new survey programs, renewals of survey programs with a large paperwork burden, or renewals of significant survey programs.

(3) Reviewing Agency annual compliance assistance plans and enforcement plans and all new significant Departmental or Agency enforcement initiatives.

(4) Consistent with Secretary's Order 11-2006 (Legislative Clearance Process; Drafting Legislative Proposals), considering all legislative proposals initiated by the Department and, upon recommendation by the Office of Congressional and Intergovernmental Affairs (OCIA) and the Office of the Solicitor (SOL), considering the impact of certain legislative proposals initiated by the Congress or other Executive Departments.

(5) Considering all proposals related to the initiation or formation of an advisory board, negotiated rulemaking committee, or similar body that includes members from outside of DOL.

(6) Reviewing a Departmental research agenda, including current, recently completed or planned Agency research projects.

(7) Developing and advancing cross-cutting Departmental policy initiatives.

(8) Performing any additional or similar duties which may be assigned by the Secretary.

B. The Deputy Secretary is responsible for attending PPB meetings, acting as co-chair of the PPB, advising the Secretary of PPB recommendations, and ensuring that PPB members are advised of the Secretary's final decisions on PPB matters. If the Deputy Secretary cannot attend a PPB meeting, he or she may designate an associate deputy or other suitable representative to attend.

C. The Assistant Secretary for Policy is responsible for maintaining the PPB agenda and providing analytic and administrative leadership and support for the PPB, including:

(1) Attending PPB meetings, acting as co-chair of the PPB, advising the Secretary of PPB recommendations, and ensuring that PPB members are advised of the Secretary's final decisions on PPB matters. If the Assistant Secretary cannot attend a PPB meeting, he or she may designate a deputy or other suitable representative of the Assistant Secretary to attend.

(2) Designating a staff coordinator(s) to provide administrative leadership and support for the PPB.

(3) Preparing, coordinating and reviewing the Department's Semi-Annual Regulatory Agenda and the Semi-Annual Peer Review Agenda, prior to PPB review and decision.

(4) Preparing procedural requirements and timetables applicable to Agency submissions to the PPB.

(5) Working with DOL agencies to identify issues or initiatives requiring PPB consideration and to ensure that all necessary related information is provided to the PPB.

(6) Promoting participation by DOL agencies on the PPB.

(7) Consistent with Secretary's Order 11-2006 (Legislative Clearance Process; Drafting Legislative Proposals), working with OCIA and SOL to staff and schedule legislative items identified by those offices for Board consideration.

(8) Working with DOL agency and SOL staff to facilitate review of items by OMB.

(9) Maintaining minutes of PPB meetings, including decisions and assignments.

(10) Maintaining a password-protected, non-public Web site on the DOL's LaborNet that includes PPB meeting schedules; agendas for each PPB meeting; agency memoranda to the PPB and accompanying materials; the Board's recommendations; the Secretary's decisions; status reports; resources, such as supplemental PPB policy and procedures and the DOL Regulatory Handbook; and any other items identified by the PPB or its members.

(11) Preparing a weekly summary of items that agencies intend to publish in the Federal Register in the upcoming week.

(12) Compiling a Departmental research agenda, including current, recently completed or planned Agency research projects.

D. The Assistant Secretary for Administration and Management is responsible for providing any support or advice required by the Board or Secretary.

E. The Assistant Secretary for Congressional and Intergovernmental Affairs is responsible for:

(1) Recommending, in conjunction with SOL, legislative proposals initiated by the Congress or other Executive Departments to the PPB for consideration.

(2) Working with the Office of the Assistant Secretary for Policy (OASP) and SOL to staff and schedule legislative items identified for PPB consideration.

(3) Attending all PPB meetings or, if unable to do so, designating a deputy or other suitable representative of the Assistant Secretary to attend.

F. The Assistant Secretary for Public Affairs is responsible for attending all PPB meetings, or, if unable to do so, designating a deputy or other suitable representative of the Assistant Secretary to attend.

G. The Solicitor of Labor is responsible for:

(1) Providing legal advice and assistance to all DOL officials relating to implementation and administration of all aspects of this Order.

(2) Recommending, in conjunction with OCIA, legislative proposals initiated by the Congress or other Executive Departments to the PPB for consideration.

(3) Working with OASP and OCIA to staff and schedule legislative items identified for PPB consideration.

(4) Attending all PPB meetings, or, if unable to do so, designating a deputy or other suitable representative of the Solicitor to attend.

H. All DOL Agency Heads are responsible for:

(1) Attending PPB meetings when an item being discussed has a potential impact on their respective agencies' policies and providing to the PPB the perspective of their respective agencies on matters before the PPB. If an Agency Head cannot attend a meeting, he or she may designate a deputy or other suitable representative of the Agency Head to attend.

(2) Seeking PPB consideration of policy initiatives that relate to their respective agencies' mission and responsibilities, including:

(a) Agency regulatory actions; regulatory policy directives (for example, interpretive bulletins and administrative opinion letters); any other significant actions to be published in the Federal Register; and all new survey programs, renewals of survey programs with a large paperwork burden, or renewals of significant survey programs.

(b) Annual compliance assistance plans and enforcement plans and significant new enforcement initiatives.

(c) Programmatic, legislative and/or policy initiatives involving significant Administration, Congressional or constituent interest (for example, outreach campaigns, program implementation plans, or precedential interpretations of laws or regulations).

(d) All proposals related to the initiation or formation of an advisory board, negotiated rulemaking committee, or similar body that includes members from outside DOL.

(e) All current, recently completed or planned Agency research projects, as part of the Departmental research agenda.

If an agency is not sure that an item requires PPB review, it should discuss the item with OASP.

(3) Preparing documents for PPB discussion, recommendation and decision in accordance with the procedures and timetables established by OASP, to ensure that all information necessary to PPB review is compiled and submitted to the PPB in a timely manner.

(4) Justifying all requests for “fast track” approval.

(5) Including OASP and SOL in consultations with OMB on all items approved by the PPB.

(6) Cooperating with OASP in preparing the weekly summary of items that will be published in the Federal Register under Section 5(c)(11) of this Order.

I. All PPB Members are responsible for:

(1) Ensuring their appropriate involvement with the duties delegated to the PPB membership.

(2) Assisting in preparations of documents for PPB discussions, recommendations, and decisions.

(3) Performing any additional or similar duties that may be assigned by the Secretary.

6. Reservation of Authority and Responsibility

A. The submission of reports and recommendations to the President and the Congress concerning the administration of statutory or administrative provisions is reserved to the Secretary.

B. This Secretary's Order does not affect the authorities or responsibilities of the Office of the Inspector General under the Inspector General Act of 1978, as amended, or under Secretary's Order 04-2006 (February 21, 2006).

7. Effective Date

This Order is effective immediately.

Dated: July 10, 2006.
Elaine L. Chao,
Secretary of Labor.

[FR Doc. 06-6446 Filed 7-24-06; 8:45 am]

BILLING CODE 4510-23-P